ENVIRONMENTAL PROTECTION AGENCY

[FRL-12281-01-OEJECR: EPA-HQ-OEJECR-2024-0147]

White House Environmental Justice Advisory Council; Notification of Public Meeting

AGENCY: Environmental Protection Agency (EPA).

ACTION: Notification for a public meeting.

SUMMARY: Pursuant to the Federal Advisory Committee Act (FACA), the U.S. Environmental Protection Agency (EPA) hereby provides notice that the White House Environmental Justice Advisory Council (WHEJAC) will meet on the dates and times described below. Due to unforeseen administrative circumstances, EPA is announcing this meeting with less than 15 calendar days public notice. This meeting is open to the public. For additional information about registering to attend the meeting or provide public comment, please see “REGISTRATION” under SUPPLEMENTARY INFORMATION. Pre-registration is required.

DATES: The WHEJAC will convene an in-person public meeting with a virtual option on Wednesday, October 9, 2024, from approximately 9:00 a.m. to 8:00 p.m. Central Time. Meeting discussions will focus on several topics including, but not limited to, workgroup activities, panel discussions, updates from the White House Council on Environmental Quality (CEQ) and other federal agencies, and new formal charges for the WHEJAC. The WHEJAC invites public comments at the meeting on the subjects listed below (see SUPPLEMENTARY INFORMATION). Members of the public who wish to participate in the public comment period must register by 11:59 p.m. Eastern Time, Friday, October 4, 2024.

ADDRESSES: The WHEJAC meeting will be held at The Jackson Center, 6001 Moquin Drive Northwest in Huntsville, Alabama 35806.

FOR FURTHER INFORMATION CONTACT: Audrie Washington, WHEJAC Designated Federal Officer, U.S. EPA; email: whejac@epa.gov; telephone: (202) 441-7295. For additional information about the WHEJAC, visit https://www.epa.gov/environmentaljustice/white-house-environmental-justice-advisory-council#meetings.

SUPPLEMENTARY INFORMATION: The Charter of the WHEJAC (available at https://www.epa.gov/system/files/documents/2024-05/whejac-amended-charter-jan-5-2024.pdf) states that the advisory committee “will provide independent advice and recommendations to the Chair of the Council on Environmental Quality (CEQ) and to the White House Environmental Justice Interagency Council (IAC) on how to increase the federal government's efforts to address current and historic environmental injustice. The WHEJAC will provide advice and recommendations about broad cross-cutting issues related, but not limited, to issues of environmental justice and pollution reduction, energy, climate change mitigation and resiliency, environmental health, and racial inequity. The WHEJAC's efforts will include a broad range of strategic, scientific, technological, regulatory, community engagement, and economic issues related to environmental justice.”

Registration: Individual registration is required for the public meeting. Information on how to register is located at https://www.epa.gov/environmentaljustice/white-house-environmental-justice-advisory-council. Registration for the meeting is available until the scheduled end time of the meeting. Registration to speak during the public comment period will close at 11:59 p.m., Central Time, Friday, October 4, 2024. When registering, please provide your name, organization, city and state, and email address for follow up. Please also indicate whether you would like to provide public comment during the meeting, or if you are submitting written comments.

A. Public Comment: The WHEJAC is interested in receiving public comments relevant to the following charges and topics:

(1) EJ.gov (or EnvironmentalJustice.gov): What features, functions, and information should be added to the site, and how could the site be improved over time to meet the needs of stakeholders and the public?

(2) National Science and Technology Council (NSTC) Environmental Justice Science, Data, and Research Plan: What metrics or indicators would prove most useful in evaluating whether the recommendations in the current Research Plan have been meaningfully integrated and used to support the advancement of environmental justice; what types of feedback mechanisms could be implemented to meaningfully capture community responses and integrate them into the planning of the NSTC Environmental Justice Subcommittee; what key areas should receive increased or decreased attention in the next iteration of the plan; and what innovative approaches or emerging technologies, should the Subcommittee consider in future Research Plans?

(3) Place-Based and Community-Focused Initiatives: What models of community-focused, multiagency collaboration have worked effectively; what methods, processes, principles, or other components have made these models effective in strengthening health or environmental protection or reducing environmental injustice affecting a specific local community or region; and in what ways could multiagency efforts at the federal level incorporate effective partnership or input from state, territorial, and local governments, consultation with Tribal governments, and engagement with communities with environmental justice concerns, community organizations, businesses, and members of the public?

(4) The Environmental Justice Scorecard: How has the public used Phase One and Phase Two of the Environmental Justice Scorecard, and how can the federal government improve future versions of the Environmental Justice Scorecard to continue to promote transparency and accountability to the public?

(5) Justice40 Initiative: How can the Federal government improve access to and awareness of Justice40 Initiative covered programs for entities eligible to apply for funding from those programs?

More information on WHEJAC Workgroup charges is located online at: https://www.epa.gov/environmentaljustice/white-house-environmental-justice-advisory-council, under WHEJAC Membership, Workgroups, and Charges.

Individuals or groups making remarks during the oral public comment period will be limited to three (3) minutes. EPA will give priority to speak during the meeting to public commenters with comments relevant to the topics and questions listed above. The WHEJAC will make every effort to hear from each public commenter who has registered to provide oral comments during the time specified on the agenda but, in the interest of time, commenters are strongly encouraged to consider submitting written comments for the record. You can submit your written comments by using the webform at https://www.epa.gov/environmentaljustice/forms/white-house-environmental-justice-advisory-council-whejac-public-comment; by emailing comments to whejac@epa.gov; or by visiting http://www.regulations.gov and opening Docket ID No. EPA-HQ-OEJECR-2024-0147. The WHEJAC will accept written comments through Wednesday, October 23, 2024.

B. Information About Services for Individuals with Disabilities or Requiring English Language Translation Assistance: For information about access or services for individuals requiring assistance, contact Audrie Washington at whejac@epa.gov. To request special accommodations for a disability or other assistance, please submit your request at least seven (7) working days prior to the meeting to give EPA sufficient time to process your request.

Deeohn Ferris,
Director, Office of Policy, Partnerships and Program Development (OPPPD) Office of Environmental Justice and External Civil Rights.

[FR Doc. 2024-21986 Filed 9-25-24; 8:45 am]

BILLING CODE 6560-50-P